DEPARTMENT OF HOMELAND SECURITY

Coast Guard

[USCG-2006-26741]

Collection of Information Under Review by Office of Management and Budget: OMB Control Numbers 1625-0007, 1625-0049, 1625-0064 and 1625-0074

AGENCY: Coast Guard, DHS.

ACTION: Request for comments.

SUMMARY: In compliance with the Paperwork Reduction Act of 1995, the U.S. Coast Guard intends to submit Information Collection Requests (ICRs) to the Office of Management and Budget (OMB) to request an extension of their approval of the following collections of information: (1) 1625-0007, Characteristics of Liquid Chemicals Proposed for Bulk Water Movement; (2) 1625-0049, Waterfront Facilities Handling Liquefied Natural Gas (LNG) and Liquefied Hazardous Gas (LHG); (3) 1625-0064, Plan Approval and Records for Subdivision and Stability Regulations—Title 46 CFR Subchapter S; and (4) 1625-0074, Direct User Fees for Inspection or Examination of U.S. and Foreign Commercial Vessels. Before submitting these ICRs to OMB, the Coast Guard is inviting comments on them as described below.

DATES: Comments must reach the Coast Guard on or before March 12, 2007.

ADDRESSES: To make sure that your comments and related material do not enter the docket [USCG-2006-26741] more than once, please submit them by only one of the following means:

(1) By mail to the Docket Management Facility, U.S. Department of Transportation (DOT), Room PL-401, 400 Seventh Street, SW., Washington, DC 20590-0001.

(2) By delivery to room PL-401 on the Plaza level of the Nassif Building, 400 Seventh Street, SW., Washington, DC, between 9 a.m. and 5 p.m., Monday through Friday, except Federal holidays. The telephone number is 202-366-9329.

(3) By fax to the Docket Management Facility at 202-493-2251.

(4) Electronically through the Web site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street, SW., Washington, DC, between 9 a.m. and 5 p.m., Monday through Friday, except Federal holidays. You may also find this docket on the Internet at http://dms.dot.gov.

Copies of the complete ICRs are available through this docket on the Internet at http://dms.dot.gov, and also from Commandant (CG-611), U.S. Coast Guard Headquarters, room 10-1236 (Attn: Mr. Arthur Requina), 2100 2nd Street, SW., Washington, DC 20593-0001. The telephone number is 202-475-3523.

FOR FURTHER INFORMATION CONTACT: Mr. Arthur Requina, Office of Information Management, telephone 202-475-3523, or fax 202-475-3929, for questions on these documents; or telephone Ms. Renee V. Wright, Program Manager, Docket Operations, 202-493-0402, for questions on the docket.

SUPPLEMENTARY INFORMATION:

Public Participation and Request for Comments

We encourage you to respond to this request for comments by submitting comments and related materials. We will post all comments received, without change, to http://dms.dot.gov; they will include any personal information you have provided. We have an agreement with DOT to use the Docket Management Facility. Please see the paragraph on DOT's “Privacy Act Policy” below.

Submitting comments: If you submit a comment, please include your name and address, identify the docket number [USCG-2006-26741], indicate the specific section of the document to which each comment applies, and give the reason for each comment. You may submit your comments and material by electronic means, mail, fax, or delivery to the Docket Management Facility at the address under ADDRESSES; but please submit them by only one means. If you submit them by mail or delivery, submit them in an unbound format, no larger than 8 ½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building,400 Seventh Street SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Information Collection Request

1. Title: Characteristics of Liquid Chemicals Proposed for Bulk Water Movement.

OMB Control Number: 1625-0007.

Summary: The Coast Guard requires manufacturers of new chemicals to submit data on new materials. From the data, the Coast Guard determines the appropriate precautions to take.

Need: Title 46 CFR parts 30 to 40, 151, 153, and 154 govern the transportation of hazardous materials. The chemical industry constantly produces new materials that must be moved by water. Each of these new materials has unique characteristics that require special attention to their mode of shipment.

Respondents: Manufacturers of chemicals.

Frequency: On occasion.

Burden Estimate: The estimated burden has decreased from 108 hours to 78 hours a year.

2. Title: Waterfront Facilities Handling Liquefied Natural Gas (LNG) and Liquefied Hazardous Gas (LHG).

OMB Control Number: 1625-0049.

Summary: Liquefied Natural Gas (LNG) and other Liquefied Hazardous Gases (LHG) present a risk to the public when handled at waterfront facilities. These rules should either prevent accidental releases at waterfront facilities or mitigate their results. They are necessary to promote and verify compliance with safety standards.

Need: Title 33 CFR Part 127 prescribe safety standards for the design, construction, equipment, operations, maintenance, personnel training, and fire protection at waterfront facilities handling LNG or LHG.

Respondents: Owners and operators of waterfront facilities that transfer LNG or LHG.

Frequency: On occasion.

Burden Estimate: The estimated burden has decreased from 3,540 hours to 2,838 hours a year.

3. Title: Plan Approval and Records for Subdivision and Stability Regulations—Title 46 CFR Subchapter S.

OMB Control Number: 1625-0064.

Summary: This collection of information requires owners, operators, or masters of certain inspected vessels to obtain and/or post various documents as part of the Coast Guard commercial vessel safety program.

Need: Title 46 U.S.C. 3306 authorizes the Coast Guard to prescribe rules for the safety of certain vessels. Title 46 CFR Subchapter S, parts 170 through 174, contain the rules regarding subdivision and stability.

Respondents: Owners, operators, or masters of vessels.

Frequency: On occasion.

Burden Estimate: The estimated burden has decreased from is 6,474 hours to 4,539 hours a year.

4. Title: Direct User Fees for Inspection or Examination of U.S. and Foreign Commercial Vessels.

OMB Control Number: 1625-0074.

Summary: This collection requires the submission of identifying information such as a vessel's name and identification number, and of the owner's choice whether or not to pay fees for future years. A written request to the Coast Guard is necessary.

Need: Section 10401 of the Omnibus Budget Reconciliation Act of 1990 [Pub. L. 101-508], which amended 46 U.S.C. 2110, requires the Coast Guard to collect user fees from inspected vessels. To properly collect and manage these fees, the Coast Guard must have current information on identification. This collection helps to ensure we get that information and manage it efficiently.

Respondents: Owners of vessels.

Frequency: Annually.

Burden Estimate: The estimated burden has increased from 3,167 hours to 4,268 hours a year.

Dated: January 3, 2007.
R.T. Hewitt,
Rear Admiral, U.S. Coast Guard, Assistant Commandant for Command, Control, Communications, Computers and Information Technology.

[FR Doc. E7-57 Filed 1-8-07; 8:45 am]

BILLING CODE 4910-15-P